DEPARTMENT OF EDUCATION

Office of Safe and Drug-Free Schools Overview Information; Emergency Management for Higher Education Grant Program; Notice Inviting Applications for New Awards for Fiscal Year (FY) 2010

Catalog of Federal Domestic Assistance (CFDA) Number: 84.184T.

Dates:

Applications Available: April 1, 2010.

Deadline for Transmittal of Applications: May 12, 2010.

Deadline for Intergovernmental Review: July 12, 2010.

Full Text of Announcement

I. Funding Opportunity Description

Purpose of Program: EMHE grants support efforts by institutions of higher education (IHEs) to develop, or review and improve, and fully integrate, campus-based all-hazards emergency management planning efforts within the framework of the four phases of emergency management (Prevention-Mitigation, Preparedness, Response, and Recovery).

Priorities: These priorities are from the notice of final priorities and requirements for this program, published elsewhere in this issue of the Federal Register.

Absolute Priorities: For FY 2010 and any subsequent year in which we make awards from the list of unfunded applicants from this competition, these priorities are absolute priorities. Under 34 CFR 75.105(c)(3) we consider only applications that meet these priorities.

These priorities are:

Priority 1—Institutions of Higher Education (IHE) Projects Designed To Develop, or Review and Improve, and Fully Integrate Campus-Based All-Hazards Emergency Management Planning Efforts.

Under this priority, we support IHE projects designed to develop, or review and improve, and fully integrate campus-based all-hazards emergency management planning efforts. A program funded under this priority must use the framework of the four phases of emergency management (Prevention-Mitigation, Preparedness, Response, and Recovery) to:

(1) Develop, or review and improve, and fully integrate a campus-wide all-hazards emergency management plan that takes into account threats that may be unique to the campus;

(2) Train campus staff, faculty, and students in emergency management procedures;

(3) Coordinate with local and State government emergency management efforts;

(4) Ensure coordination of planning and communication across all relevant components, offices, and departments of the campus;

(5) Develop a written plan with emergency protocols that include the medical, mental health, communication, mobility, and emergency needs of persons with disabilities, as well as for those individuals with temporary special needs or other unique needs (including those arising from language barriers or cultural differences);

(6) Develop or update a written plan that prepares the campus for infectious disease outbreaks with both short-term implications for planning (e.g., outbreaks caused by methicillin-resistant Staphylococcus aureus (MRSA) or food-borne illnesses) and long-term implications for planning (e.g., pandemic influenza);

(7) Develop or enhance a written plan for preventing violence on campus by assessing and addressing the mental health needs of students, staff, and faculty who may be at risk of causing violence by harming themselves or others; and

(8) Develop or update a written campus-wide continuity of operations plan that would enable the campus to maintain and/or restore key educational, business, and other essential functions following an emergency.

Priority 2—Priority for Applicants That Have Not Previously Received a Grant Under The EMHE Program (CFDA 84.184T).

Under this priority we give priority to applications from IHEs that have not previously received a grant under this program (CFDA number 84.184T). An applicant that has received services under this program directly, or as a partner in a consortium application under this program, would not meet this priority. Under a consortium application, all members of the IHE consortium must meet this criterion in order for the applicant to meet this priority.

Final Requirements: These requirements are from the notice of final priorities and requirements published elsewhere in this issue of the Federal Register. The following requirements apply to all applications submitted under this competition:

1. Partner Agreements: To be considered for a grant award, an applicant must include in its application two partner agreements. One partner agreement must detail coordination with, and participation of, a representative of the appropriate level of local or State government for the locality in which the IHE to be served by the project is located (for example, the mayor, city manager, or county executive). The second partner agreement must detail coordination with, and participation of, a representative from a local or State emergency management coordinating body (for example, the head of the local emergency planning council that would be involved in coordinating a large-scale emergency response effort in the campus community). Both agreements must include the name of the partner organization, an indication of whether the partner represents the local or State government or the local or State emergency management coordinating body, and a description of the respective partner as well as a description of the partner's roles and responsibilities in supporting the EMHE grant and in strengthening emergency management planning efforts for the IHE. Each partner agreement must also include a description of the roles and responsibilities of the IHE in grant implementation and partner coordination. A signature from an authorized representative of the IHE and each of the two required partners acknowledging the relationship and the agreements must be included in the application. If either or both of the two required partners is not present in an applicant's community, or cannot feasibly participate, the agreements must explain the absence of each missing partner.

Applications that fail to include either of the two required partner agreement forms, including information on partners' roles and responsibilities (or an explanation documenting that partner's absence in the community) along with the required signatures, will not be considered for funding.

Each consortium applicant (an applicant submitting on behalf of multiple IHEs) and any applicant applying on behalf of multiple campuses (including one or more satellite or extension campuses within its own institution or its consortium of IHEs) must submit a complete set of partner agreements with appropriate signatures from the authorized representative and the two required partners noted earlier for each campus proposed to be receiving services under its EMHE project.

Although this program requires partnerships with other parties, administrative direction and fiscal control for the project must remain with the IHE.

2. Completed Memoranda of Agreements: All IHEs supported by the EMHE program must use the grant period to create, or review and update, and sign, a memorandum of agreement (MOA) with each of the following four partners: local or State emergency management coordinating body, local government, primary off-campus public health provider, and primary off-campus mental health services provider. Each applicant under the EMHE program must include an assurance with its application that the IHE will establish these MOAs during the project period. MOAs must be completed for each campus to be served by the EMHE project. Completed MOAs will be requested at the end of the project period with the Final Report submission.

3. Coordination with State or Local Homeland Security Plan: All emergency management plans created or enhanced using funding under this program must be coordinated with the Homeland Security Plan of the State or locality in which the IHE is located. To ensure that emergency services are coordinated, and to avoid duplication of effort within States and localities, an applicant must include in its application an assurance that the IHE will coordinate with, and follow, the requirements of its State or local Homeland Security Plan for emergency services and initiatives.

4. Implementation of the National Incident Management System (NIMS): Each applicant must agree to implement its grant in a manner consistent with the implementation of the NIMS in its community. An applicant must include in its application an assurance that it has met, or will complete, all current NIMS requirements by the end of the grant period.

Implementation of the NIMS is a dynamic process that will continue to evolve over time. In order to receive Federal preparedness funding under the EMHE program, each IHE must cooperate with the efforts of its community to meet the minimum NIMS requirements established for each fiscal year. Because the Department of Homeland Security's (DHS) determination of NIMS requirements may change from year to year, an applicant must refer to the most recent list of NIMS requirements published by DHS when submitting its application. In any notice inviting applications, the Department will provide applicants with information necessary to access the most recent DHS list of NIMS requirements.

Note: The responsibilities and procedures of any campus-based security office or law enforcement agency and the elements of the campus emergency management plan must be considered in conjunction with the local community's emergency operations plan (EOP) and the capacity and responsibility of local fire and rescue departments, emergency medical service providers, crisis center/hotlines, and law enforcement agencies that may be called to assist the IHE in a large-scale disaster. IHEs' participation in the NIMS preparedness program of the local government is essential in ensuring that first-responder services are delivered in a timely and effective manner. Additional information about NIMS and NIMS implementation is available at: http://www.fema.gov/emergency/nims/ImplementationGuidanceStakeholders.shtm and http://www.fema.gov/emergency/nims/index.shtm.

IHEs that have previously received Federal preparedness funding and are, therefore, already NIMS-compliant should indicate that in the assurance form.

5. Eligibility: To be considered for an award under this competition, an applicant must be considered an IHE, or a consortia thereof. An IHE, for the purposes of this competition, is defined as: an educational institution in any State that—

(1) Admits as regular students only persons having a certificate of graduation from a school providing secondary education, or the recognized equivalent of such a certificate or persons who meet the requirements of section 484(d)(3) of the Higher Education Act of 1965, as amended;

(2) Is legally authorized within such State to provide a program of education beyond secondary education;

(3) Provides an educational program for which the institution awards a bachelor's degree or provides not less than a 2-year program that is acceptable for full credit toward such a degree or awards a degree that is acceptable for admission to a graduate or professional degree program, subject to review and approval by the Secretary;

(4) Is a public or other nonprofit institution; and

(5) Is accredited by a nationally recognized accrediting agency or association or, if not so accredited, is an institution that has been granted preaccreditation status by such an agency or association that has been recognized by the Secretary for the granting of preaccreditation status, and the Secretary has determined that there is satisfactory assurance that the institution will meet the accreditation standards of such an agency or association within a reasonable time.

Program Authority: 20 U.S.C. 7131.

Applicable Regulations: (a) The Education Department General Administrative Regulations (EDGAR) in 34 CFR parts 74, 75, 77, 79, 81, 82, 84, 85, 86, 97, 98, and 99. (b) The regulations in 34 CFR part 299. (c) The notice of final priorities and requirements, published elsewhere in this issue of the Federal Register.

Note: The regulations in 34 CFR part 79 apply to all applicants except federally recognized Indian tribes.

Note: The regulations in 34 CFR part 86 apply to institutions of higher education only.

II. Award Information

Type of Award: Discretionary grants.

Estimated Available Funds: $9,067,000.

Contingent upon the availability of funds and the quality of applications, we may make additional awards later in FY 2010 and in FY 2011 from the list of unfunded applicants from this competition.

Estimated Range of Awards: $200,000-$750,000.

Estimated Average Size of Awards: We estimate that IHEs with student enrollment between 1-999 students will need up to $200,000 to implement their projects; IHEs with enrollment between 1,000-4,999 students will need up to $300,000 to implement their projects; IHEs with enrollment between 5,000 and 19,999 will need up to $500,000 to implement their projects; and IHEs with enrollment between 20,000 and 40,000 may need up to $750,000 to implement their projects. Please note that these are estimates only and IHEs that believe that they need additional support to successfully complete their projects should fully justify this in their applications.

Estimated Number of Awards: 26.

Note: The Department is not bound by any estimates in this notice.

Project Period: Up to 24 months. Budgets should be developed for a single award with a project period of up to 24 months. No continuation awards will be provided.

III. Eligibility Information

1. Eligible Applicants: To be considered for an award under this competition, an applicant must be considered an IHE, or a consortia thereof. An IHE, for the purposes of this competition, is defined as: an educational institution in any State that—

(1) Admits as regular students only persons having a certificate of graduation from a school providing secondary education, or the recognized equivalent of such a certificate or persons who meet the requirements of section 484(d)(3) of the Higher Education Act of 1965, as amended;

(2) Is legally authorized within such State to provide a program of education beyond secondary education;

(3) Provides an educational program for which the institution awards a bachelor's degree or provides not less than a 2-year program that is acceptable for full credit toward such a degree or awards a degree that is acceptable for admission to a graduate or professional degree program, subject to review and approval by the Secretary;

(4) Is a public or other nonprofit institution; and

(5) Is accredited by a nationally recognized accrediting agency or association or, if not so accredited, is an institution that has been granted preaccreditation status by such an agency or association that has been recognized by the Secretary for the granting of preaccreditation status, and the Secretary has determined that there is satisfactory assurance that the institution will meet the accreditation standards of such an agency or association within a reasonable time. This eligibility requirement is from the notice of final priorities and requirements published elsewhere in this issue of the Federal Register.

2. Cost Sharing or Matching: This competition does not require cost sharing or matching.

IV. Application and Submission Information

1. Address to Request Application Package: You can obtain an application package via the Internet. To obtain a copy via the Internet, use the following address: http://www.ed.gov/fund/grant/apply/grantapps/index.html.

Individuals with disabilities can obtain a copy of the application package in an accessible format (e.g., braille, large print, audiotape, or computer diskette) by contacting the person listed under Accessible Format in section VIII of this notice.

2. Content and Form of Application Submission: Requirements concerning the content of an application, together with the forms you must submit, are in the application package for this competition.

3. Submission Dates and Times:

Applications Available: April 1, 2010. Deadline for Transmittal of Applications: May 12, 2010.

Applications for grants under this competition may be submitted electronically using the Electronic Grant Application System (e-Application) accessible through the Department's e-Grants site, or in paper format by mail or hand delivery. For information (including dates and times) about how to submit your application electronically, or in paper format by mail or hand delivery, please refer to section IV. 6. Other Submission Requirements of this notice.

We do not consider an application that does not comply with the deadline requirements.

Individuals with disabilities who need an accommodation or auxiliary aid in connection with the application process should contact the person listed under For Further Information Contact in section VII in this notice. If the Department provides an accommodation or auxiliary aid to an individual with a disability in connection with the application process, the individual's application remains subject to all other requirements and limitations in this notice. Deadline for Intergovernmental Review: July 12, 2010.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications.

If you choose to submit your application to us electronically, you must use e-Application, accessible through the Department's e-Grants Web site at: http://e-grants.ed.gov.

While completing your electronic application, you will be entering data online that will be saved into a database. You may not e-mail an electronic copy of a grant application to us.

Please note the following:

• Your participation in e-Application is voluntary.

• You must complete the electronic submission of your grant application by 4:30:00 p.m., Washington, DC time, on the application deadline date. E-Application will not accept an application for this competition after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you submit your application in paper format.

• You must submit all documents electronically, including all information you typically provide on the following forms: the Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of System Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under For Further Information Contact (see VII. Agency Contact) or (2) the e-Grants help desk at 1-888-336-8930. If e-Application is unavailable due to technical problems with the system and, therefore, the application deadline is extended, an e-mail will be sent to all registered users who have initiated an e-Application.

Extensions referred to in this section apply only to the unavailability of e-Application. If e-Application is available, and, for any reason, you are unable to submit your application electronically or you do not receive an automatic acknowledgment of your submission, you may submit your application in paper format by mail or hand delivery in accordance with the instructions in this notice.

b. Submission of Paper Applications by Mail.

If you submit your application in paper format by mail (through the U.S. Postal Service or a commercial carrier), you must mail the original and two copies of your application, on or before the application deadline date, to the Department at the following address: U.S. Department of Education, Application Control Center, Attention: (CFDA Number 84.184T), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.184T), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

Selection Criteria: The selection criteria for this competition are from 34 CFR 75.210 and are listed in the application package.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. For this competition, you must also submit an interim report 12 months after the award date. The Secretary may also require more frequent performance reports under 34 CFR 75.720(c). For specific requirements on reporting, please go to http://www.ed.gov/fund/grant/apply/appforms/appforms.html.

4. Performance Measure: We have identified the following Government Performance and Results Act of 1993 (GPRA) performance measure for assessing the effectiveness of the EMHE grant program: The average number of National Incident Management System (NIMS) training course completions by key personnel at the start of the grant compared to the average number of NIMS training course completions by key personnel at the end of the grant.

This GPRA measure constitutes the Department's indicator of success for this program. Applicants for a grant under this program are advised to give careful consideration to this measure in designing their proposed project, including considering how data for the measure will be collected. Grantees will be required to collect and report, in their interim and final performance reports, baseline data and data on their progress with regard to this measure.

VII. Agency Contact

For Further Information Contact: Tara Hill, U.S. Department of Education, 400 Maryland Avenue, SW., Room 10088, PCP, Washington, DC 20202-6450. Telephone: (202) 245-7860 or by e-mail: tara.hill@ed.gov.

If you use a TDD, call the FRS, toll free, at 1-800-877-8339.

VIII. Other Information

Accessible Format: Individuals with disabilities can obtain this document and a copy of the application package in an accessible format (e.g., braille, large print, audiotape, or computer diskette) on request to the program contact person listed under For Further Information Contact in section VII of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: March 29, 2010.
Kevin Jennings,
Assistant Deputy Secretary for Safe and Drug-Free Schools.

[FR Doc. 2010-7417 Filed 3-31-10; 8:45 am]

BILLING CODE 4000-01-P